NUCLEAR REGULATORY COMMISSION

[Docket No. NRC-2012-0148]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on September 5, 2012 (77 FR 54616).

1. Type of submission, new, revision, or extension: Extension.

2. The title of the information collection: 10 CFR Part 150, “Exemptions and Continued Regulatory Authority in Agreement States and in Offshore Waters Under Section 274.”

3. Current OMB approval number: 3150-0032.

4. The form number if applicable: N/A.

5. How often the collection is required: 10 CFR 150.16(b), 10 CFR 150.17(c), and 10 CFR 150.19(c) require the submission of reports following specified events, such as the theft or unlawful diversion of licensed radioactive material. The source material inventory reports required under 10 CFR 150.17(b) must be submitted annually by certain licensees.

6. Who will be required or asked to report: Agreement State licensees authorized to possess source or special nuclear material at certain types of facilities, or at any one time and location in greater than specified amounts. In addition, persons engaging in activities in non-Agreement States, in areas of exclusive Federal jurisdiction within Agreement States, or in offshore waters.

7. An estimate of the number of annual responses: 8.

8. The estimated number of annual respondents: 8.

9. An estimate of the total number of hours needed annually to complete the requirement or request: 190.

10. Abstract: Part 150 of Title 10 of the Code of Federal Regulations (10 CFR), provides certain exemptions from NRC regulations for persons in Agreement States. The regulations in 10 CFR part 150 also defines activities in Agreement States and in offshore waters over which the NRC regulatory authority continues, including certain information collection requirements. The information is needed to permit the NRC to make reports to other governments and the International Atomic Energy Agency in accordance with international agreements. The information is also used to carry out the NRC's safeguards and inspection programs.

The public may examine and have copied for a fee, publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 24, 2012. Comments received after this date will be considered if it is practical to do so, but assurance of consideration cannot be given to comments received after this date.

Chad Whiteman, Desk Officer, Office of Information and Regulatory Affairs (3150-0032), NEOB-10202, Office of Management and Budget, Washington, DC 20503.

Comments can also be emailed to Chad_S_Whiteman@omb.eop.gov. or submitted by telephone at 202-395-4718.

The NRC Clearance Officer is Tremaine Donnell, 301-415-6258.

Dated at Rockville, Maryland, this 16th day of November, 2012.
For the Nuclear Regulatory Commission.
Tremaine Donnell,
NRC Clearance Officer, Office of Information Services.

[FR Doc. 2012-28443 Filed 11-21-12; 8:45 am]

BILLING CODE 7590-01-P